DEPARTMENT OF DEFENSE

Department of the Army; Corps of Engineers

Chief of Engineers Environmental Advisory Board Meeting

AGENCY: Department of the Army, U.S. Army Corps of Engineers, DoD.

ACTION: Notice of open meeting.

SUMMARY: In accordance with 10(a)(2) of the Federal Advisory Committee Act (Pub. L. 92-463), announcement is made of the forthcoming meeting. The meeting is open to the public.

Name of Committee: Chief of Engineers Environmental Advisory Board (EAB).

Date: June 17, 2005.

Location: Radisson Hotel Old Town Alexandria, 901 N. Fairfax Street, Alexandria, VA 22314-1501, (703) 683-6000.

Time: 9 a.m. to 12 p.m.

FOR FURTHER INFORMATION CONTACT: Mr. Norman Edwards, Headquarters, U.S. Army Corps of Engineers, Washington, DC 20314-1000; Ph: 202-761-1934.

SUPPLEMENTARY INFORMATION: The Board advises the Chief of Engineers on environmetal policy, identification and resolution of environmental issues and missions, and addressing challenges, problems and opportunities in an environmentally sustainable manner. The public meeting will focus on general issues of national significance rather than on individual project or region related topics. Time will be provided for public comment. Each speaker will be limited to no more than three minutes in order to accommodate as many people as possible within the limited time available.

Brenda S. Bowen,
Army Federal Register Liaison Officer.

[FR Doc. 05-10836 Filed 5-31-05; 8:45 am]

BILLING CODE 3710-92-M